DEPARTMENT OF HEALTH AND HUMAN SERVICES

Centers for Disease Control and Prevention

[30Day-24-23DT]

Agency Forms Undergoing Paperwork Reduction Act Review

In accordance with the Paperwork Reduction Act of 1995, the Centers for Disease Control and Prevention (CDC) has submitted the information collection request titled “Reporting of the Essentials for Childhood (EfC): Preventing Adverse Childhood Experiences through Data to Action Program” to the Office of Management and Budget (OMB) for review and approval. CDC previously published a “Proposed Data Collection Submitted for Public Comment and Recommendations” notice on March 31, 2023 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Reporting of the Essentials for Childhood (EfC): Preventing Adverse Childhood Experiences through Data to Action Program—New—National Center for Injury Prevention and Control (NCIPC), Centers for Disease Control and Prevention (CDC).

Background and Brief Description

The purpose of the information collection effort is to collect Essentials for Childhood (EfC) program recipient data related to surveillance, implementation, program evaluation, and performance monitoring. This data collection is necessary to ensure that programs are progressing toward achievement of their stated goals and objectives, as well as consistently demonstrating efficient and appropriate use of federal funds. CDC will use the information collected to further understand the facilitators, barriers, and critical factors to implementing specific violence prevention strategies and conducting related program evaluation activities. Data collected will also be used to inform CDC's training and technical assistance, program improvement, and the development of future funding opportunities.

Data collection is designed to address the following key program evaluation questions:

• To what extent have recipients accomplished the short-term and intermediate-term outcomes outlined in the Logic Model?

• To what extent do recipients effectively implement Adverse Childhood Experience (ACE) prevention strategies during the period of performance?

• To what extent have recipients leveraged multi-sector partnerships and resources among state agencies (additional funding at the local level) and other sectors to prevent ACEs, including forming sustainable systems and partnerships, and realigning/focusing/mobilizing resources to prevent ACEs?

• In what ways has the recipient built or enhanced their state-level surveillance system to monitor ACEs, PCEs, and social determinants of health?

• How has the recipient integrated and addressed racial and health inequities and social determinants of health in preventing ACEs?

• To what extent have recipients enhanced their statewide action plan to implement complementary ACEs prevention strategies (additional funding for implementation at the local level)?

• To what extent have funded recipients enhanced their ability to use ACEs and PCEs surveillance and evaluation data to inform prevention strategy allocation?

• To what extent have recipients enhanced their ability to disseminate and use data to inform partner, policy, or other action?

• To what extent have recipients seen a sustainable increase in capacity and activities related to routine monitoring of ACEs and PCEs data among youth?

• To what extent have recipients seen a sustainable increase in capacity and activities related to routine monitoring of near real-time surveillance to monitor indicators of ACEs?

• To what extent have recipients demonstrated ability to link ACEs and PCEs data to those on the social determinants of health, and utilize these data to inform prevention strategies (if applicable)?

• What is the reach/exposure to the ACEs prevention program efforts?

• Are ACEs prevention strategies reaching populations at highest risk for ACEs?

• To what extent have recipients demonstrated use of surveillance and evaluation data to inform prevention strategy allocation and implementation to improve health equity?

• What has been the reach/exposure of ACEs and PCEs data dissemination efforts?

Information will be collected annually from recipients through the DVP Partners Portal, a web-based data collection system. The DVP Partners Portal allows recipients to fulfill their annual reporting obligations efficiently by employing user-friendly, easily accessible web-based instruments to collect necessary information for both progress reports and continuation applications. Because information from previous reports will be carried over and pre-populated for the next annual reporting, recipients will only need to enter changes, provide progress updates, and add any new information after the first year of reporting, which will help to reduce recipient burden.

CDC requests OMB approval for an estimated 168 annual burden hours. There is no cost to respondents other than their time to participate.

Estimated Annualized Burden Hours
Type of respondents | Form name | Number of respondents | Number of responses per respondent | Average burden per response (in hours)
Essentials For Childhood Grantees | Annual Performance Report (APR)—Project Leads | 12 | 1 | 10
| Key Informant Interview—Principal Investigators | 12 | 1 | 1
| Key Informant Interview—Principal Investigator/Implementor | 12 | 1 | 1
| Surveillance Capacity Assessment—Surveillance Lead | 12 | 1 | 30/60
| Implementation Capacity Assessment | 12 | 1 | 30/60
| Evaluation and Surveillance Survey—Surveillance Lead or Evaluator | 12 | 1 | 1

Jeffrey M. Zirger,
Lead, Information Collection Review Office, Office of Public Health Ethics and Regulations, Office of Science, Centers for Disease Control and Prevention.

[FR Doc. 2023-24344 Filed 11-2-23; 8:45 am]

BILLING CODE 4163-18-P